DEPARTMENT OF COMMERCE

United States Patent and Trademark Office

[Docket No.: PTO-C-2019-0023]

National Medal of Technology and Innovation Nomination Evaluation Committee

AGENCY: United States Patent and Trademark Office, Commerce.

ACTION: Notice and request for committee nominations.

SUMMARY: The United States Patent and Trademark Office (“USPTO”) is requesting nominations of individuals to serve on the National Medal of Technology and Innovation Nomination Evaluation Committee. The USPTO will consider all timely nominations received in response to this notice as well as from other sources.

DATES: To ensure full consideration, nominations must be postmarked, faxed or electronically transmitted no later than August 1, 2019.

ADDRESSES: Nominations must be submitted to, Program Manager, National Medal of Technology and Innovation Program, United States Patent and Trademark Office, P.O. Box 1450, Alexandria, Virginia 22313-1450. Nominations also may be submitted by electronic mail to: nmti@uspto.gov.

FOR FURTHER INFORMATION CONTACT: John Palafoutas, Program Manager, National Medal of Technology and Innovation Program, United States Patent and Trademark Office, P.O. Box 1450, Alexandria, Virginia 22313-1450, telephone (571) 272-9821, or electronic mail: nmti@uspto.gov.

SUPPLEMENTARY INFORMATION:

Background

The National Medal of Technology and Innovation Nomination Evaluation Committee (“Committee”) was established in accordance with the Federal Advisory Committee Act (FACA) (Title 5, United States Code, Appendix 2). The Charter for the Committee was renewed on February 13, 2018. See 83 FR 31526 (July 6, 2018). The following provides information about the Committee and membership:

• Committee members are appointed by and serve at the discretion of the Secretary of Commerce. The Committee provides advice to the Secretary on the implementation of Public Law 96-480 (15 U.S.C. 3711), as amended August 9, 2007.

• The Committee functions solely as an advisory body under the FACA. Members are appointed to the approximately 12-member committee for a term of three years. Each member will be reevaluated at the conclusion of the three-year term with the prospect of reappointment to one additional term, pending advisory committee needs and the Secretary's concurrence.

• Members are responsible for reviewing nominations and making recommendations for the nation's highest honor for technological innovation, awarded annually by the President of the United States. Members of the Committee must have an understanding of, and experience in, developing and utilizing technological innovation and/or be familiar with the education, training, employment, and management of the technological workforce.

Nomination Information

• Through this notice, the USPTO is requesting nominations for approximately five (5) members of the Committee, for terms of three years that begin on upon appointment by the Secretary of Commerce.

• The USPTO is seeking nominations of candidates from small, medium-sized, and large businesses, non-profit organizations and associations, and academia, with expertise in the following sub-sectors of the technology enterprise: Medical Innovations/Bioengineering and Biomedical Technology; Technology Management/Computing/IT/Manufacturing Innovation; Technological Workforce/Workforce Training/Education. Under the FACA, membership on a committee must be balanced in background and expertise. Past Committee members generally have been Chief Executive Officers or former Chief Executive Officers; former winners of the National Medal of Technology and Innovation; presidents or distinguished faculty of universities; or senior executives of non-profit organizations. As such, they not only offer the stature of their positions but also possess intimate knowledge of the forces determining future directions for their organizations and industries. The Committee as a whole is balanced in representing geographical, professional, and diverse interests.

• Persons wishing to submit a nomination must send the nominee's resume to the USPTO through one of the methods listed under ADDRESSES. A person can self-nominate or be nominated by another individual.

• Nominees must be United States citizens, be able to fully participate in meetings pertaining to the review and selection of finalists for the National Medal of Technology and Innovation, and be able to uphold the confidential nature of an independent peer review and competitive selection process.

• The United States Patent and Trademark Office is committed to equal opportunity in the workplace and seeks a broad-based and diverse committee membership.

Dated: June 26, 2019.
Andrei Iancu
Under Secretary of Commerce for Intellectual Property and Director of the United States Patent and Trademark Office.

[FR Doc. 2019-14089 Filed 7-1-19; 8:45 am]

BILLING CODE 3510-16-P